DEPARTMENT OF THE TREASURY

Customs Service

[T.D. 01-91]

Cancellation of Customs Broker Licenses

AGENCY: U.S. Customs Service, Department of the Treasury.

ACTION: Cancellation of licenses.

SUMMARY: Notice is hereby given that, pursuant to 19 CFR 111.53(g), the following individual Customs broker licenses have been cancelled due to death of the broker. Because previous publication of these records cannot be readily verified, the records are now being published to ensure Customs compliance with administrative requirements.

Name | License | Port Name
B.A. McKenzie | 00182 | Seattle.
Alfred J. Stanoch | 03407 | Seattle.
Eugene C. Cameron | 03518 | Seattle.
James A. Bronson | 04116 | Seattle.

Dated: December 17, 2001.
Bonni G. Tischler,
Assistant Commissioner, Office of Field Operations.

[FR Doc. 01-31389 Filed 12-19-01; 8:45 am]

BILLING CODE 4820-02-P